DEPARTMENT OF EDUCATION

[Docket ID ED-OS-2010-0011]

RIN 1894-AA00

Secretary's Priorities for Discretionary Grant Programs

AGENCY: Department of Education.

ACTION: Notice of proposed priorities.

SUMMARY: The Secretary of Education proposes priorities that the Department of Education (Department) may use for any appropriate discretionary grant program in fiscal year (FY) 2011 and future years. We take this action to focus Federal financial assistance on expanding the number of programs and projects Department-wide that support activities in areas of greatest educational need. We are establishing these priorities on a Department-wide basis. This action will permit all offices in the Department to use, as appropriate for particular discretionary grant programs, one or more of these priorities in any discretionary grant competition. We also propose definitions of key terms used in these proposed priorities.

DATES: We must receive your comments on or before September 7, 2010.

ADDRESSES: Submit your comments through the Federal eRulemaking Portal or via postal mail, commercial delivery, or hand delivery. We will not accept comments by fax or by e-mail. Please submit your comments only one time in order to ensure that we do not receive duplicate copies. In addition, please include the Docket ID and the term “Department Priorities” at the top of your comments.

• Federal eRulemaking Portal: Go to http://www.regulations.gov to submit your comments electronically. Information on using Regulations.gov, including instructions for accessing agency documents, submitting comments, and viewing the docket, is available on the site under “How To Use This Site.”

• Postal Mail, Commercial Delivery, or Hand Delivery. If you mail or deliver your comments about these proposed priorities, address them to: Office of Innovation and Improvement (Attention: Department Priorities Comments), U.S. Department of Education, 400 Maryland Avenue, SW., room 4W321, Washington, DC 20202.

• Privacy Note: The Department's policy for comments received from members of the public (including those comments submitted by mail, commercial delivery, or hand delivery) is to make these submissions available for public viewing in their entirety on the Federal eRulemaking Portal at http://www.regulations.gov. Therefore, commenters should be careful to include in their comments only information that they wish to make publicly available on the Internet.

FOR FURTHER INFORMATION CONTACT: Margo Anderson. Telephone: (202) 205-3010 or by e-mail: Margo.Anderson@ed.gov.

If you use a telecommunications device for the deaf (TDD), call the Federal Relay Service, toll free, at 1-800-877-8339.

SUPPLEMENTARY INFORMATION: Invitation to Comment: We invite you to submit comments regarding this notice. To ensure that your comments have maximum effect in developing the notice of final priorities, we urge you to identify clearly the specific proposed priority that each comment addresses.

We invite you to assist us in complying with the specific requirements of Executive Order 12866 and its overall requirement of reducing regulatory burden that might result from these proposed priorities. Please let us know of any further ways we could reduce potential costs or increase potential benefits while preserving the effective and efficient administration of the Department's programs.

During and after the comment period, you may inspect all public comments about this notice in room 4W335, 400 Maryland Avenue, SW., Washington, DC, between the hours of 8:30 a.m. and 4:00 p.m., Washington, DC time, Monday through Friday of each week except Federal holidays.

Assistance to Individuals with Disabilities in Reviewing the Rulemaking Record: On request, we will provide an appropriate accommodation or auxiliary aid to an individual with a disability who needs assistance to review the comments or other documents in the public rulemaking record for these proposed priorities. If you want to schedule an appointment for this type of accommodation or auxiliary aid, please contact the person listed under FOR FURTHER INFORMATION CONTACT.

Program Authority: 20 U.S.C. 1221e-3.

Proposed Priorities

The Secretary proposes thirteen priorities that the Department may use, as appropriate, for discretionary grant competitions in FY 2011 and future years. These priorities will allow the Department and, by extension, program participants to focus limited Federal resources on areas of greatest educational need. The Secretary recognizes that some of the priorities will not be appropriate for particular programs.

Background

The President has set a clear goal for our education system: by 2020, the United States will once again lead the world in the proportion of citizens holding college degrees or other postsecondary credentials. To support the national effort to meet this goal, the Secretary has outlined an ambitious, comprehensive education agenda that includes early learning programs that help ensure that children are ready to succeed in school, elementary and secondary schools that keep every child on track to graduate from high school with the knowledge and skills needed for success in college and careers, and a higher education system that gives every individual the opportunity to attend and graduate from postsecondary programs. To ensure that the Department's discretionary grant programs effectively spur innovation, promote the development and implementation of effective and sustainable practices, and support adoption and implementation of necessary reforms, the Secretary proposes priorities in three key areas: advancing key cradle-to-career educational reforms, addressing the needs of student subgroups, and building capacity for systemic continuous improvement.

Types of Priorities

When inviting applications for a competition using one or more priorities, we designate each priority as absolute, competitive preference, or invitational through a notice in the Federal Register. The effect of each type of priority follows:

Absolute priority: Under an absolute priority, we consider only applications that meet the priority (34 CFR 75.105(c)(3)).

Competitive preference priority: We give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority we are particularly interested in applications that meet the priority. However, we do not give an application that meets the priority a preference over other applications (34 CFR 75.105(c)(1)).

Proposed Priorities

I. Advancing Key Cradle-to-Career Educational Reforms

Proposed Priority 1—Improving Early Learning Outcomes

Background. High-quality early learning programs for high-need children can help prevent the development of gaps in skills and achievement, reduce grade retention, and help ensure that high-need children are successful in school and life.¹

¹ Heckman, JJ and D Masterov. 2004. The Productivity Argument for Investing in Young Children. Working Paper No. 5, Invest in Kids Working Group, Washington, DC.

Statement of Proposed Priority 1. Projects that are designed to improve school readiness and success for high-need children (as defined in this notice) from birth through third grade through a focus on one or more of the following priority areas:

(a) Physical well-being and motor development.

(b) Social-emotional development.

(c) Language and literacy development.

(d) Cognition and general knowledge, including early numeracy and early scientific development.

(e) Approaches toward learning.²

² These five domains of early learning are adopted from those identified by the National Education Goals Panel. Sharon Lynn Kagan et al., Reconsidering Children's Early Development and Learning: Toward Common Views and Vocabulary (Washington, DC: National Education Goals Panel, 1995).

Proposed Priority 2—Implementing Internationally Benchmarked, College- and Career-Ready Elementary and Secondary Academic Standards

Background. Many States are moving toward the adoption of common, internationally benchmarked, college- and career-ready academic standards for elementary and secondary school students. States will benefit from assistance in transitioning to these new standards, including assistance in developing and implementing (a) high-quality instructional materials, (b) assessments aligned with the standards, (c) teacher and principal preparation and professional development programs, and (d) other strategies that translate the standards into classroom practice.

Statement of Proposed Priority 2. Projects that are designed to support the implementation of internationally benchmarked, college- and career-ready academic standards held in common by multiple States, including projects in one or more of the following priority areas:

(a) The development or implementation of assessments (e.g., summative, formative, interim) aligned with those standards.

(b) The development or implementation of instructional materials aligned with those standards.

(c) The development or implementation of professional development or preparation programs aligned with those standards.

(d) Strategies that translate the standards into classroom practice.

Proposed Priority 3—Improving the Effectiveness and Distribution of Effective Teachers or Principals

Background. While educator quality is a critical contributor to student learning, there is dramatic variation in educator effectiveness within and across schools, including significant inequity in the distribution of effective educators between high- and low-poverty schools. Proposed priority 3 is intended to support projects designed to increase the number and percentage of effective and highly effective teachers or principals, or help increase the retention and equitable distribution of effective and highly effective teachers or principals.

Statement of Proposed Priority 3. Projects that are designed to address one or more of the following priority areas:

(a) Increasing the number or percentage of effective and highly effective teachers or principals (as defined in this notice) or reducing the number or percentage of teachers or principals who are ineffective, particularly in high-poverty schools (as defined in this notice).

(b) Increasing the retention and equitable distribution of effective and highly effective teachers or principals (as defined in this notice).

Proposed Priority 4—Turning Around Persistently Lowest-Achieving Schools

Background. An essential element in strengthening our education system is dramatic improvement of student performance in each State's persistently lowest-achieving schools. These schools often require intensive interventions to improve the school culture and climate, strengthen the school staff and instructional program, increase student attendance and enrollment in advanced courses, provide more time for learning, and ensure that social services and community support are available for students in order to raise student achievement, graduation rates, and college enrollment rates. In addition, students in these schools can benefit from participating in programs that offer additional services designed to increase student success.

Statement of Proposed Priority 4. Projects that are designed to address one or more of the following priority areas:

(a) Improving student achievement (as defined in this notice) in persistently lowest-achieving schools (as defined in this notice).

(b) Increasing graduation rates (as defined in this notice) and college enrollment rates for students in persistently lowest-achieving schools (as defined in this notice).

(c) Providing services to students enrolled in persistently lowest-achieving schools (as defined in this notice).

Proposed Priority 5—Increasing Postsecondary Success

Background. Meeting the President's goal of restoring the United States to first in the world in the percentage of citizens holding college degrees or other postsecondary credentials will require significantly increasing the number of high-need students who graduate from high school prepared to succeed in higher education and careers and who have access to college or rigorous postsecondary career or technical training leading to a degree or certificate. It will also require increasing the rates at which young people and adults enroll in, persist in, and complete college or other postsecondary training. This priority is designed to support efforts to reach the President's goal.

Statement of Proposed Priority 5. Projects that are designed to address one or more of the following priority areas:

(a) Increasing the rates at which high-need students (as defined in this notice) are academically prepared for and enroll in college or other postsecondary education and training.

(b) Increasing the rates at which high-need students (as defined in this notice) persist in and complete college or other postsecondary education and training.

(c) Increasing the rates at which high-need students (as defined in this notice) enroll in and complete high-quality secondary or postsecondary career and technical courses or programs of study (as defined in this notice) designed to lead to a degree, credential, or certificate.

(d) Increasing the number of individuals who return to the educational system to obtain a high school diploma, to obtain needed basic skills enhancement, or to enter, persist in, and complete college or rigorous postsecondary career or technical training leading to a degree, credential, or certificate.

(e) Increasing the rates at which high-need students (as defined in this notice) enroll in and complete graduate programs.

II. Addressing Needs of Student Subgroups

Proposed Priority 6—Improving Achievement and High School Graduation Rates of Rural and High-Need Students

Background. The Nation suffers from persistent gaps in achievement and graduation rates between the Nation's high-need students, including students at risk of educational failure or otherwise in need of special assistance and support, such as students who are living in poverty, who are English language learners, who are far below grade level, who have left school before receiving a regular high school diploma, who are at risk of not graduating with a diploma on time, who are homeless, who are in foster care, who have been incarcerated, or who have disabilities, and their more advantaged peers. Accelerating the achievement and graduation rates of these students, including re-engaging individuals who have dropped out of school, is essential to improving the life outcomes for these students and to sustaining our economic and civic future. In addition, students in rural areas can face specific challenges to learning based on isolation and lack of local resources.

Statement of Proposed Priority 6. Projects that are designed to address one or more of the following priority areas:

(a) Accelerating learning and helping to improve high school graduation rates (as defined in this notice) and college enrollment rates for students in rural communities.

(b) Accelerating learning and helping to improve high school graduation rates (as defined in this notice) and college enrollment rates for high-need students (as defined in this notice).

(c) Accelerating learning and helping to improve high school graduation rates (as defined in this notice) and college enrollment in high-poverty schools (as defined in this notice).

Proposed Priority 7—Promoting Science, Technology, Engineering, and Mathematics (STEM) Education

Background. Increasing the number of students with interest, knowledge, and skills in STEM is essential to the success of our students and the health of our economy. This will require increasing the proportion of students prepared for careers in STEM who are from groups traditionally under-represented in these careers, including minorities, individuals with disabilities, and women. Strategies that schools and institutions can use to help meet this goal include offering rigorous and engaging courses of study in STEM subjects; collaborating with industry experts, museums, universities, research centers, or other STEM-capable community partners to prepare and assist teachers in promoting effective and relevant instruction and offering applied learning opportunities for students; and preparing more students for advanced study in STEM.

Statement of Proposed Priority 7. Projects that are designed to address one or more of the following priority areas:

(a) Providing students with increased access to rigorous and engaging courses of study in STEM.

(b) Increasing the number of students prepared for advanced postsecondary or graduate study and careers in STEM, with a specific focus on an increase in the proportion of students so prepared who are from groups traditionally under-represented in STEM careers, including minorities, individuals with disabilities, and women.

(c) Increasing the opportunities for high-quality preparation of, or professional development for, teachers of STEM subjects.

Proposed Priority 8—Promoting Diversity

Background. Local educational agencies and postsecondary institutions have found that providing diverse learning environments and, in the case of local educational agencies, avoiding the racial isolation of their student body can provide substantial educational benefits. These benefits include, among other things, improving educational outcomes, promoting cross-racial understanding, breaking down racial stereotypes, and preparing students for an increasingly diverse workforce and society. By encouraging local educational agencies and postsecondary institutions to take steps to promote student body diversity, including racial and ethnic diversity, and, in the case of local educational agencies, to avoid racial isolation, the Department can assist these agencies and institutions in better preparing their students to compete in the global marketplace. Any steps taken by these agencies and institutions to further these efforts must be done in accordance with applicable U.S. Supreme Court precedent.

Statement of Proposed Priority 8. Projects that are designed to promote student diversity, including racial and ethnic diversity, or avoid racial isolation.

Proposed Priority 9—Support for Military Families

Background. Military deployments following the terrorist attacks of September 11, 2001, have placed an enormous strain on military families and their children. Over 80 percent of children of active-duty military personnel who are in elementary or secondary school attend public schools in the United States. Through a Memorandum of Understanding, the Department of Education and the Department of Defense acknowledge the unique educational needs and challenges faced by the children of military servicemen and servicewomen. This priority is part of the Administration's commitment to the families of its servicemen and servicewomen.

Statement of Proposed Priority 9. Projects that are designed to address the needs of military-connected students (as defined in this notice).

III. Building Capacity for Systemic Continuous Improvement

Proposed Priority 10—Enabling More Data-Based Decision-Making

Background. Accurate, timely, relevant, and appropriate data are the key to knowing what is working for students and what is not. Data can tell us which students are on track to college- and career-readiness and which need additional support, which instructional strategies are working, which schools or institutions are doing better at improving student learning and performance, and which teachers or faculty excel in increasing student achievement so that they can, for example, be given the opportunity to coach others or to lead communities of professional practice. Data and the effective use of data for informed decision-making are essential to the continuous improvement of educational results.

This proposed priority is designed to support projects that provide educators, as well as families and other key stakeholders, with the data they need and the capacity and training to use those data to improve school readiness, respond to the learning and academic needs of students, increase student achievement (as defined in this notice), improve educator effectiveness, inform professional development practices and approaches, understand the culture and climate of their schools and institutions, and make informed decisions that increase overall program effectiveness.

Statement of Proposed Priority 10. Projects that are designed to collect (or obtain), analyze, and use high-quality and timely data, especially on program participant outcomes, in accordance with privacy requirements (as defined in this notice), in one of the following priority areas:

(a) Improving instructional practices, policies, and student outcomes in early learning settings.

(b) Improving instructional practices, policies and student outcomes in elementary and secondary schools.

(c) Improving postsecondary student outcomes relating to enrollment, persistence, and completion and leading to career success.

(d) Providing reliable and comprehensive information on the implementation of Department of Education programs, and participant outcomes in these programs, especially by developing strategies with appropriate State agencies to use data from State longitudinal data systems or by obtaining data from reliable third-party sources.

Proposed Priority 11—Building Evidence of Effectiveness

Background. The strongest available empirical evidence should inform decisions about education practices and policies. Evidence accumulates through evaluation of practices and of program performance and, as more robust evidence becomes available, increasingly rigorous evaluations become appropriate. Random assignment and quasi-experimental designs are considered the most rigorous evidence of the impact of a program because these designs are best able to eliminate plausible competing explanations for observed results. The Department's notice of final priority on scientifically based evaluation methods, published on January 25, 2005 in the Federal Register,³ has made it possible for the Department to expand the number of programs and projects Department-wide that are evaluated using experimental and quasi-experimental designs. This priority remains in effect; however, recognizing that using such research designs is not always feasible and that, in some cases, other designs are more appropriate to the question being asked, priority 11 would support rigorous evaluation studies consistent with the principles of scientific research in order to enable better understanding of the relationship between intervention, implementation, and student outcomes.

³ 70 FR 3586 (Jan. 25, 2005).

Statement of Proposed Priority 11. Projects that propose evaluation plans that are likely to produce valid and reliable evidence in one or more of the following priority areas:

(a) Improving project design and implementation or designing more effective future projects to improve outcomes.

(b) Identifying and improving practices, strategies, and policies that may contribute to improving outcomes.

Under this priority, at a minimum, the outcome of interest is to be measured multiple times before and after the treatment for project participants and, where feasible, for a comparison group of non-participants.

Proposed Priority 12—Supporting Programs, Practices, or Strategies for Which There is Strong or Moderate Evidence of Effectiveness

Background. Using good evidence to inform decision-making and building better evidence over time are crucial components of continuous program improvement. This proposed priority is designed to support projects that use the best available evidence in designing and implementing programs and strategies.

Statement of Proposed Priority 12. Projects that are supported by strong or moderate evidence (as defined in this notice). A project that is supported by strong evidence (as defined in this notice) will receive more points than a project that is supported by moderate evidence (as defined in this notice).

Proposed Priority 13—Improving Productivity

Background. High-performing organizations consistently seek to improve the effectiveness of their processes and staff to achieve the best possible results in the most efficient manner. One tool for improving productivity is to redesign processes and structures to take advantage of the power of technology to improve learning outcomes while making more efficient use of time, money, and staff. In times of tight budgets, closely examining spending and reallocating resources toward more efficient and more cost-effective strategies are even more essential.

Statement of Proposed Priority 13. Projects that are designed to significantly increase efficiency in the use of time, staff, money, or other resources. Such projects may include innovative and sustainable uses of technology, modification of school schedules, use of open educational resources (as defined in this notice), or other strategies that improve results and increase productivity.

Proposed Definitions

Background: We propose definitions for several important terms associated with these priorities.

Proposed Definitions: The Secretary proposes the following definitions for the Department priorities.

Carefully matched comparison group design means a type of quasi-experimental study (as defined in this notice) that attempts to approximate an experimental study (as defined in this notice). More specifically, it is a design in which project participants are matched with non-participants based on key characteristics that are thought to be related to the outcome. These characteristics include, but are not limited to:

(1) Prior test scores and other measures of academic achievement (preferably, the same measures that the study will use to evaluate outcomes for the two groups);

(2) Demographic characteristics, such as age, disability, gender, English proficiency, ethnicity, poverty level, parents' educational attainment, and single- or two-parent family background;

(3) The time period in which the two groups are studied (e.g., the two groups are children entering kindergarten in the same year as opposed to sequential years); and

(4) Methods used to collect outcome data (e.g., the same test of reading skills administered in the same way to both groups).

Effective principal means a school principal whose students, overall and for each subgroup, achieve acceptable rates (e.g., at least one grade level in an academic year) of student growth (as defined in this notice). A method for determining if a principal is effective must include multiple measures, and effectiveness must be evaluated, in significant part, on the basis of student growth (as defined in this notice). Supplemental measures may include, for example, high school graduation rates (as defined in this notice) and college enrollment rates, as well as evidence of providing supportive teaching and learning conditions, strong instructional leadership, and positive family and community engagement.

Effective teacher means a teacher whose students achieve acceptable rates (e.g., at least one grade level in an academic year) of student growth (as defined in this notice). A method for determining if a teacher is effective must include multiple measures, and effectiveness must be evaluated, in significant part, on the basis of student growth (as defined in this notice). Supplemental measures may include, for example, multiple observation-based assessments of teacher performance.

Experimental study means a study that employs random assignment of, for example, students, teachers, classrooms, schools, or districts to participate in a project being evaluated (treatment group) or not to participate in the project (control group). The effect of the project is the average difference in outcomes between the treatment and control groups.

Graduation rate means a four-year adjusted cohort graduation rate consistent with 34 CFR 200.19(b)(1) and may also include an extended-year adjusted cohort graduation rate consistent with 34 CFR 200.19(b)(1)(v) if the State in which the proposed project is implemented has been approved by the Secretary to use such a rate under Title I of the ESEA.

Highly effective principal means a principal whose students, overall and for each subgroup, achieve high rates (e.g., one and one-half grade levels in an academic year) of student growth (as defined in this notice). A method for determining if a principal is highly effective must include multiple measures, provided that principal effectiveness is evaluated, in significant part, on the basis of student growth (as defined in this notice). Supplemental measures may include, for example, high school graduation rates (as defined in this notice); college enrollment rates; evidence of providing supportive teaching and learning conditions, strong instructional leadership, and positive family and community engagement; or evidence of attracting, developing, and retaining high numbers of effective teachers.

Highly effective teacher means a teacher whose students achieve high rates (e.g., one and one-half grade levels in an academic year) of student growth (as defined in this notice). A method of determining if a teacher is highly effective must include multiple measures, provided that teacher effectiveness is evaluated, in significant part, on the basis of student growth (as defined in this notice). Supplemental measures may include, for example, multiple observation-based assessments of teacher performance or evidence of leadership roles (which may include mentoring or leading professional learning communities) that increase the effectiveness of other teachers in the school or LEA.

High-need children and high-need students means children and students at risk of educational failure or otherwise in need of special assistance and support, such as children and students who are living in poverty, who are English language learners, who are far below grade level, who have left school before receiving a regular high school diploma, who are at risk of not graduating with a diploma on time, who are homeless, who are in foster care, who have been incarcerated, or who have disabilities.

High-poverty school means a school in which at least 50 percent of students are eligible for free or reduced-price lunches under the Richard B. Russell National School Lunch Act or in which at least 50 percent of students are from low-income families as determined using one of the criteria specified under section 1113(a)(5) of the Elementary and Secondary Education Act of 1965, as amended. For middle and high schools, eligibility may be calculated on the basis of comparable data from feeder schools. Eligibility as a high-poverty school under this definition is determined on the basis of the most currently available data.

Interrupted time series design ⁴ means a type of quasi-experimental study (as defined in this notice) in which the outcome of interest is measured multiple times before and after the treatment for program participants only. If the program had an impact, the outcomes after treatment will have a different slope or level from those before treatment. That is, the series should show an “interruption” of the prior situation at the time when the program was implemented. Adding a comparison group time series, such as schools not participating in the program or schools participating in the program in a different geographic area, substantially increases the reliability of the findings.

⁴ A single subject or single case design is an adaptation of an interrupted time series design that relies on the comparison of treatment effects on a single subject or group of single subjects. There is little confidence that findings based on this design would be the same for other members of the population. In some single subject designs, treatment reversal or multiple baseline designs are used to increase internal validity. In a treatment reversal design, after a pretreatment or baseline outcome measurement is compared with a post treatment measure, the treatment would then be stopped for a period of time; a second baseline measure of the outcome would be taken, followed by a second application of the treatment or a different treatment. A multiple baseline design addresses concerns about the effects of normal development, timing of the treatment, and amount of the treatment with treatment-reversal designs by using a varying time schedule for introduction of the treatment and/or treatments of different lengths or intensity.

Military-connected student means a student in pre-kindergarten through grade 12 who has a parent or guardian on active duty in the uniformed services, as defined by 37 U.S.C. 101, in the Army, Navy, Air Force, Marine Corps, Coast Guard, National Guard, or the reserve component of any of the aforementioned services.

Moderate evidence means evidence from previous studies whose designs can support causal conclusions (i.e., studies with high internal validity) but have limited generalizability (i.e., moderate external validity), or studies with high external validity but moderate internal validity. The following would constitute moderate evidence:

(1) At least one well-designed and well-implemented (as defined in this notice) experimental or quasi-experimental study (as defined in this notice) supporting the effectiveness of the practice, strategy, or program, with small sample sizes or other conditions of implementation or analysis that limit generalizability;

(2) At least one well-designed and well-implemented (as defined in this notice) experimental or quasi-experimental study (as defined in this notice) that does not demonstrate equivalence between the intervention and comparison groups at program entry but that has no other major flaws related to internal validity; or

(3) Correlational research with strong statistical controls for selection bias and for discerning the influence of internal factors.

Open educational resources (OER) means teaching, learning, and research resources that reside in the public domain or have been released under an intellectual property license that permits their free use or repurposing by others.

Persistently lowest-achieving schools means, as determined by the State: (i) Any Title I school in improvement, corrective action, or restructuring that (a) is among the lowest-achieving five percent of Title I schools in improvement, corrective action, or restructuring or the lowest-achieving five Title I schools in improvement, corrective action, or restructuring in the State, whichever number of schools is greater; or (b) is a high school that has had a graduation rate as defined in 34 CFR 200.19(b) that is less than 60 percent over a number of years; and (ii) any secondary school that is eligible for, but does not receive, Title I funds that: (a) Is among the lowest-achieving five percent of secondary schools or the lowest-achieving five secondary schools in the State that are eligible for, but do not receive, Title I funds, whichever number of schools is greater; or (b) is a high school that has had a graduation rate as defined in 34 CFR 200.19(b) that is less than 60 percent over a number of years.

To identify the persistently lowest-achieving schools, a State must take into account both: (i) The academic achievement of the “all students” group in a school in terms of proficiency on the State's assessments under section 1111(b)(3) of the ESEA in reading/language arts and mathematics combined; and (ii) the school's lack of progress on those assessments over a number of years in the “all students” group.

Privacy requirements means the requirements of the Family Educational Rights and Privacy Act (FERPA), 20 U.S.C. 1232g, and its implementing regulations in 34 CFR part 99, the Privacy Act, 5 U.S.C. 552a, as well as all applicable Federal, State and local requirements regarding privacy.

Program of study means a career and technical education program of study, which may be offered as an option to students (and their parents as appropriate) when planning for and completing future coursework, that—

(a) Incorporates secondary education and postsecondary education;

(b) Includes coherent and rigorous content aligned with challenging academic standards and relevant career and technical content in a coordinated, non-duplicative progression of courses that align secondary education with postsecondary education to adequately prepare students to succeed in postsecondary education;

(c) May include the opportunity for secondary education students to participate in dual or concurrent enrollment programs or other ways to acquire postsecondary education credits; and

(d) Leads to an industry-recognized credential or certificate at the postsecondary level, or an associate or baccalaureate degree.

Quasi-experimental study means an evaluation design that attempts to approximate an experimental design (as defined in this notice) and can support causal conclusions (i.e., minimizes threats to internal validity, such as selection bias, or allows them to be modeled). Well-designed and well-implemented quasi-experimental studies include carefully matched comparison group designs (as defined in this notice), interrupted time series designs (as defined in this notice), or regression discontinuity designs (as defined in this notice).

Regression discontinuity design study means, in part, a quasi-experimental study (as defined in this notice) design that closely approximates an experimental study (as defined in this notice). In a regression discontinuity design, participants are assigned to a treatment or comparison group based on a numerical rating or score of a variable unrelated to the treatment such as the rating of an application for funding. Another example would be assignment of eligible students, teachers, classrooms, or schools above a certain score (“cut score”) to the treatment group and assignment of those below the score to the comparison group.

Strong evidence means evidence from previous studies whose designs can support causal conclusions (i.e., studies with high internal validity), and studies that in total include enough of the range of participants and settings to support scaling up to the State, regional, or national level (i.e., studies with high external validity). The following are examples of strong evidence:

(1) More than one well-designed and well-implemented (as defined in this notice) experimental study (as defined in this notice) or well-designed and well-implemented (as defined in this notice) quasi-experimental study (as defined in this notice) that supports the effectiveness of the practice, strategy, or program; or

(2) One large, well-designed and well-implemented (as defined in this notice) randomized controlled, multisite trial that supports the effectiveness of the practice, strategy, or program.

Student achievement means—

(a) For tested grades and subjects: (1) A student's score on the State's assessments under the ESEA; and, as appropriate, (2) other measures of student learning, such as those described in paragraph (b) of this definition, provided they are rigorous and comparable across schools.

(b) For non-tested grades and subjects: Alternative measures of student learning and performance, such as student scores on pre-tests and end-of-course tests; student performance on English language proficiency assessments; and other measures of student achievement that are rigorous and comparable across schools.

Student growth means the change in student achievement (as defined in this notice) for an individual student between two or more points in time. A State may also include other measures that are rigorous and comparable across classrooms.

Well-designed and well-implemented means, with respect to an experimental or quasi-experimental study (as defined in this notice), that the study meets the What Works Clearinghouse evidence standards, with or without reservations (see http://ies.ed.gov/ncee/wwc/references/idocviewer/doc.aspx?docid=19&tocid=1 and in particular the description of “Reasons for Not Meeting Standards” at http://ies.ed.gov/ncee/wwc/references/idocviewer/Doc.aspx?docId=19&tocId=4#reasons).

Final Priorities and Definitions

We will announce the final priorities and definitions in a notice in the Federal Register. We will determine the final priorities and definitions after considering responses to this notice and other information available to the Department. This notice does not preclude us from proposing additional priorities and definitions, subject to meeting applicable rulemaking requirements.

Note: This notice does not solicit applications. In any year in which we choose to use any of these priorities and definitions, we invite applications through a notice in the Federal Register.

Reminder of Accountability Requirements: We remind potential applicants that in reviewing applications in any discretionary grant competition, under 34 CFR 75.217(d)(3), the Secretary may consider the past performance of the applicant in carrying out a previous award, such as the applicant's use of funds and its compliance with grant conditions. The Secretary may also consider whether the applicant failed to submit a performance report or submitted a report of unacceptable quality.

Under 34 CFR 74.14 and 80.12, the Secretary may impose special conditions on a grant if the applicant or grantee is not financially stable; has a history of unsatisfactory performance; has a financial or other management system that does not meet the standards in 34 CFR part 74 or 80, as applicable; has not fulfilled the conditions of a prior grant; or is otherwise not responsible.

In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a competitive grant award, the Secretary also requires various assurances and, in making a continuation award, considers whether the grantee is operating in compliance with its current assurances, including those under applicable Federal civil rights laws and the regulations in 34 CFR parts 100 through 110 that prohibit discrimination in programs or activities receiving Federal financial assistance from the Department of Education.

Executive Order 12866

Under Executive Order 12866, the Secretary must determine whether a regulatory action is “significant” and therefore subject to the requirements of the Executive order and subject to review by the Office of Management and Budget. Section 3(f) of Executive Order 12866 defines a “significant regulatory action” as an action likely to result in a rule that may (1) have an annual effect on the economy of $100 million or more, or adversely affect a sector of the economy, productivity, competition, jobs, the environment, public health or safety, or State, local or Tribal governments or communities in a material way (also referred to as an “economically significant” rule); (2) create serious inconsistency or otherwise interfere with an action taken or planned by another agency; (3) materially alter the budgetary impacts of entitlement grants, user fees, or local programs or the rights and obligations of recipients thereof; or (4) raise novel legal or policy issues arising out of legal mandates, the President's priorities, or the principles set forth in the Executive order. The Secretary has determined that this regulatory action is significant under section 3(f) of the Executive order.

This notice has been reviewed in accordance with Executive Order 12866. Under the terms of the order, we have assessed the potential costs and benefits of this proposed regulatory action.

The potential costs associated with this proposed regulatory action are those resulting from statutory requirements and those we have determined as necessary for administering the Department's discretionary grant programs effectively and efficiently.

In assessing the potential costs and benefits—both quantitative and qualitative—of this proposed regulatory action, we have determined that the benefits of the proposed priorities and definitions justify the costs.

Intergovernmental Review: Some of the programs affected by these proposed priorities are subject to Executive Order 12372 and the regulations in 34 CFR part 79. One of the objectives of the Executive order is to foster an intergovernmental partnership and a strengthened federalism. The Executive order relies on processes developed by State and local governments for coordination and review of proposed Federal financial assistance.

Accessible Format: Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: July 15, 2010.
Arne Duncan,
Secretary of Education.

[FR Doc. 2010-19296 Filed 8-4-10; 8:45 am]

BILLING CODE 4000-01-P